NATIONAL AERONAUTICS AND SPACE ADMINISTRATION

[Notice: 16-025]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: Interested persons are invited to submit written comments on the proposed information collection to NASA Paperwork Reduction Act Clearance Officer, Code JF000, National Aeronautics and Space Administration, Washington, DC 20546-0001 or Frances.C.Teel@nasa.gov.

FOR FURTHER INFORMATION CONTACT: Requests for additional information or copies of the information collection instrument(s) and instructions should be directed to Ms. Frances Teel, NASA Clearance Officer, NASA Headquarters, 300 E Street SW., JF000, Washington, DC 20546, or Frances.C.Teel@nasa.gov.

SUPPLEMENTARY INFORMATION:

I. Background

The Aviation Safety Reporting System (ASRS) is a NASA program developed to enable the voluntary collection of aviation safety incident/situation reports from individuals to include but not limited to pilots, air traffic controllers, dispatchers, cabin crew, and maintenance technicians. The ASRS represents the continuing effort by government, industry, and individuals to maintain and improve aviation safety. The information collected is used by NASA, the Federal Aviation Administration, and the aviation community in the promotion of flight safety.

Data collected is used to identify deficiencies and discrepancies in the National Airspace System, support policy formulation and planning, and strengthen the foundation of aviation safety research. Comments submitted in response to this notice will be summarized and included in the request for OMB approval of this information collection. They will also become a matter of public record.

II. Method of Collection

NASA collects the information electronically, however information may also be collected via mail.

III. Data

Title: NASA Aviation Safety Reporting System.

OMB Control Number: 2700-XXXX.

Type of Review: Existing information collection in use without OMB Approval.

Affected Public: Individuals.

Estimated Number of Respondents: 92,228.

Estimated Time per Response: 30 minutes.

Estimated Total Annual Burden Hours: 46,114 hours.

Estimated Total Annual Cost: $311,945.

IV. Request for Comments

Comments are invited on: (1) Whether the proposed collection of information is necessary for the proper performance of the functions of NASA, including whether the information collection has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2016-08851 Filed 4-15-16; 8:45 am]

BILLING CODE 7510-13-P